DEPARTMENT OF JUSTICE

Antitrust Division

Notice Pursuant to the National Cooperative Research and Production Act of 1993—World Airline Entertainment Association

Notice if hereby given that, on September 15, 2004, pursuant to section 6(a) of the National Cooperative Research and Production Act of 1993, 15 U.S.C. 4301 et seq. (“the Act”), the World Airline Entertainment Association (“WAEA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: World Airline Entertainment Association, McLean, VA. The nature and scope of WAEA's standards development activities are: development of standards and other technical specifications for in-flight airline entertainment and related products.

Dorothy B. Fountain,
Deputy Director of Operations Antitrust Division.

[FR Doc. 04-24575 Filed 11-2-04; 8:45 am]

BILLING CODE 4410-11-M